DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before (Insert date 20 days after publication in the Federal Register). Address written comments to Statutory Import Programs Staff, Room 3720, U.S. Department of Commerce, Washington, DC 20230. Applications may be examined between 8:30 a.m. and 5:00 p.m. at the U.S. Department of Commerce in Room 3720.

Docket Number: 12-024. Applicant: Department of Mechanical Engineering, Texas A&M University, 3123 TAMU, College Station, TX 77843-3123. Instrument: Arc melting system. Manufacturer: Edmund Beuhler GmbH, Germany. Intended Use: The instrument will be used to fabricate bulk nanostructured metals and metallic glasses, in particular Mg based alloys, CuNb, NiAl, Nb based alloys and metal matrix composites with oxide nanoparticles. It will be used to investigate the influence of suction casting on the formation of nanostructures in casted alloys, and to study the behavior of these casted alloys, in order to design radiation tolerant and impact resistant high strength alloys with unique microstructures. Pertinent features of this instrument include the capability of suction casting and ceramic powder feed-through for the addition of oxide nanoparticles during the melting of metals. Suction casting is required to achieve nanocrystalline grains, and ceramic powder feed-through will be used to mix ceramic powders with melted metals to achieve metal based nanocomposites. Justification for Duty-Free Entry: There are no instruments of the same general category manufactured in the United States. Application accepted by Commissioner of Customs: April 25, 2012.

Dated: May 29, 2012.
Gregory W. Campbell,
Director of Subsidies Enforcement, Import Administration.

[FR Doc. 2012-13482 Filed 6-1-12; 8:45 am]

BILLING CODE 3510-DS-P